DEPARTMENT OF JUSTICE

Notice of Lodging of Consent Decree Under the Comprehensive Environmental Response, Compensation, and Liability Act

Notice is hereby given that on April 28, 2010, a proposed Consent Decree in United States of America v. AGC Flat Glass North America, Inc., et al., Civil Action No. 1:10-cv-00069-IMK, was lodged with the United States District Court for the Northern District of West Virginia.

In this action the United States sought to recover from the defendants response costs incurred by the United States Environmental Protection Agency (“EPA”) in responding to releases or threatened releases of hazardous substances at or from the Princeton Enterprises Site, located in Clarksburg, Harrison County, West Virginia (the “Site”). The Consent Decree obligates AGC Flat Glass North America, Inc. and AGC America, Inc., to reimburse EPA's past response costs related to the Site.

The Consent Decree requires the settling parties to pay to the EPA Hazardous Substance Superfund the principal sum of $168,524.08 plus interest, in three installments. The first payment of $70,000 is due within thirty (30) days of entry of the Consent Decree. The second payment of $50,000, plus interest, is due within one hundred and twenty (120) days of entry of the Consent Decree. The third and final payment of $48,524.08, plus interest, is due within two hundred and seventy (270) days of entry of the Consent Decree.

The Department of Justice will receive for a period of thirty (30) days from the date of this publication comments relating to the Decree. Comments should be addressed to the Assistant Attorney General, Environmental and Natural Resources Division, and either e-mailed to pubcomment-ees.enrd@usdoj.gov or mailed to P.O. Box 7611, U.S. Department of Justice, Washington, DC 20044-7611, and should refer to United States of America v. AGC Flat Glass North America, Inc., et al., Civil Action No. 1:10-cv-00069-IMK, (N.D.W.V.), D.J. Ref. 90-11-3-08696.

The Decree may be examined at the Office of the United States Attorney, Northern District of West Virginia, U.S. Courthouse & Federal Bldg., 1125 Chapline Street, Suite 3000, Wheeling, WV 26003, and at U.S. EPA Region III, 1650 Arch Street, Philadelphia, PA 19103. During the public comment period, the Decree may also be examined on the following Department of Justice Web site, http://www.usdoj.gov/enrd/Consent_Decrees.html. A copy of the Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $ 5.50 (25 cents per page reproduction cost) payable to the U.S. Treasury or, if by e-mail or fax, forward a check in that amount to the Consent Decree Library at the stated address.

Maureen Katz,
Assistant Chief, Environmental Enforcement Section, Environment and Natural Resources Division.

[FR Doc. 2010-10484 Filed 5-4-10; 8:45 am]

BILLING CODE 4410-15-P